DEPARTMENT OF AGRICULTURE

Animal and Plant Health Inspection Service

7 CFR Part 330

[Docket No. 95-095-3]

RIN 0579-AA80

Plant Pest Regulations; Update of Current Provisions

AGENCY: Animal and Plant Health Inspection Service, USDA.

ACTION: Notice of reopening and extension of comment period.

SUMMARY: We are reopening and extending the comment period for our proposed rule that would revise our regulations regarding the movement of plant pests by adding risk-based criteria for determining the plant pest status of organisms, establishing a notification process that could be used as an alternative to the current permitting system, providing for the environmental release of organisms for the biological control of weeds, and updating the text of the subpart. This action will allow interested persons additional time to prepare and submit comments.

DATES: We invite you to comment on Docket No. 95-095-2. We will consider all comments we receive by that are postmarked, delivered, or e-mailed by February 6, 2002.

ADDRESSES: You may submit comments by postal mail/commercial delivery or by e-mail. If you use postal mail/commercial delivery, please send four copies of your comment (an original and three copies) to: Docket No. 95-095-2, Regulatory Analysis and Development, PPD,APHIS, Station 3C71, 4700 River Road Unit 118, Riverdale, MD 20737-1238. Please state that your comment refers to Docket No. 95-095-2. If you use e-mail, address your comment to regulations@aphis.usda.gov. Your comment must be contained in the body of your message; do not send attached files. Please include your name and address in your message and “Docket No. 95-095-2” on the subject line.

You may read any comments that we receive on Docket No. 95-095-2 in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS rules, are available on the Internet at http://www.aphis.usda.gov/ppd/rad/webrepor.html.

FOR FURTHER INFORMATION CONTACT: Dr. Robert Flanders, Risk Assessment Branch Chief, or Ms. Deborah Knott, Permits Branch Chief, PPQ, APHIS, 4700 River Road Unit 133, Riverdale, MD 20737-1236; phone 301-734-5930 (Dr. Flanders) or 301-734-5055 (Ms. Knott).

SUPPLEMENTARY INFORMATION:

Background

On October 9, 2001, we published in the Federal Register (66 FR 51340-51358, Docket No. 95-095-2) a proposal to revise our regulations regarding the movement of plant pests by adding risk-based criteria for determining the plant pest status of organisms, establishing a notification process that could be used as an alternative to the current permitting system, providing for the environmental release of organisms for the biological control of weeds, and updating the text of the subpart.

Comments on the proposed rule were required to be received on or before December 10, 2001. We are reopening and extending the comment period on Docket No. 95-095-2 for an additional 30 days. This action will allow interested persons additional time to prepare and submit comments. We will also consider all comments received between December 11, 2001(the day after the close of the original comment period) and the date of this notice.

In addition, we would like to point out that the DATES and ADDRESSES sections of this notice contain information regarding the submission of comments that was not contained in the October 9, 2001, proposed rule. Specifically, we are now accepting comments via e-mail and will consider comments submitted by postal mail that are postmarked rather than received in our offices by the close of the comment period.

Authority: 7 U.S.C. 450, 2260, 7711, 7712, 7714, 7718, 7731, 7734, 7751, and 7754; 19 U.S.C. 1306; 21 U.S.C. 111, 114a, 136, and 136a; 31 U.S.C. 9701; 42 U.S.C. 4331 and 4332; 7 CFR 2.22, 2.80, and 371.3.

Done in Washington, DC, this 27th day of December, 2001.
Kevin Shea,
Acting Administrator, Animal and Plant Health Inspection Service.

[FR Doc. 02-263 Filed 1-4-02; 8:45 am]

BILLING CODE 3410-34-U